ENVIRONMENTAL PROTECTION AGENCY

[ER-FRL-8585-4]

Environmental Impact Statements; Notice of Availability

Responsible Agency: Office of Federal Activities, General Information (202) 564-1399 or http://www.epa.gov/compliance/nepa/.

Weekly receipt of Environmental Impact Statements

Filed 07/06/2009 through 07/10/2009

Pursuant to 40 CFR 1506.9.

EIS No. 20090233, Final EIS, IBR, NM, Navajo-Gallup Water Supply Project, To Provide a Long-Term (Year 2040) Water Supply, Treatment and Transmission of Municipal and Industrial (M&I) Water to Navajo Nation and Jicarilla Apache Nation, City of Gallup, New Mexico, Wait Period Ends: 08/17/2009, Contact: Terry Stroh 970-248-0608.

EIS No. 20090234, Final EIS, AFS, SD, Slate Castle Project Area, Proposes to Implement Multiple Resource Management Actions, Mystic Ranger District, Black Hills National Forest, Pennington County, SD, Wait Period Ends: 08/17/2009, Contact: Katie Van Alstyne 605-343-1567.

EIS No. 20090235, Draft EIS, AFS, CA, Sugar Pine Adaptive Management Project, Proposal to Create a Network of Strategically Placed Landscape Area Treatments (SPLATs) and Defensible Fuels Profiles near Key Transportation Corridors to Reduce the Intensity and Spread of Wildfires across the landscape and near Communities, Madera and Mariposa Counties, CA, Comment Period Ends: 08/31/2009, Contact: Mark Lemon 559-877-2218 Ext. 3110.

EIS No. 20090236, Final EIS, FHW, CA, Orange County Gateway Project, To Provide Grade Separation Alternative Along the Burlington Northern Santa Fe railroad tracks from west of Bradford Avenue to west of Imperial Highway (State Route 90), Cities of Placentia and Anaheim, Orange County, CA, Wait Period Ends: 08/17/2009, Contact: Scott K. McHenry 916-498-5854.

EIS No. 20090237, Draft EIS, UMC, NC, U.S. Marine Corps Grow the Force at MCB Camp Lejeune, MCAS New River, and MCAS Cherry Point, To Provide the Infrastructure to Support the Permanent Increases at these three Installations, U.S. Army Corps Section 404 and 10 Permits, City of Jacksonville, NC, Comment Period Ends: 09/01/2009, Contact: Michael H. Jones 757-322-4942.

EIS No. 20090238, Final EIS, USN, VA, Norfolk Harbor Channel, Proposed Dredging to Deepen Five Miles of the Federal Navigation Channel in the Elizabeth River from Lamberts Bend to the Norfolk Naval Shipyard (NNSY), Norfolk and Portsmouth, VA, Wait Period Ends: 08/17/2009, Contact: John Conway 904-542-6159.

EIS No. 20090239, Draft EIS, AFS, OR, Big Summit Allotment Management Plan, Proposes to Reauthorize Cattle Term Grazing Permits, Construct Range Improvements, and Restore Riparian Vegetation on Five Allotments, Lookout Mountain Ranger District, Ochoco National Forest, Crook County, OR, Comment Period Ends: 08/31/2009, Contact: Marcy Anderson 541-416-6463.

EIS No. 20090240, Final EIS, FhW, NC, NC-119 Relocation Project, Transportation Improvement from the I-185/40 Interchange Southwest of Mebane to Existing NC-119 south of NC-1918 (Mrs. White Lane) Mebane, Right-of-Way Acquisition, Alamance County, NC, Wait Period Ends: 08/17/2009, Contact: John F. Sullivan 919-856-4346 Ext. 122.

EIS No. 20090241, Draft EIS, IBR, KS, Aquifer Storage Recharge and Recovery Project, To Provide Municipal and Industrial (M&I) Water to City and Surrounding Region, Equus Beds Division, Wichita Project, Kansas, Harvey, Sedgwick, and Reno Counties, KS, Comment Period Ends: 09/11/2009, Contact: Charles Webster 405-470-4807.

EIS No. 20090242, Draft EIS, IBR, CA, Delta-Mendota Canal/California Aqueduct Intertie Project, Construction and Operation of a Pumping Plant and Pipeline Connection, San Luis Delta-Mendota Water Authority Project, Central Valley Project, Alameda and San Joaquin Counties, CA, Comment Period Ends: 08/31/2009, Contact: Sharon McHale 916-978-5086.

EIS No. 20090243, Final EIS, COE, FL, C-111 Spreader Canal Western Project, To Restore Ecosystem Function in Taylor Slough and Florida Bay Areas, Central and Southern Florida Project, Comprehensive Everglades Restoration Plan (CERP), Everglades National Park, Miami-Dade County, FL, Wait Period Ends: 08/17/2009, Contact: Alisa Zarbo 561-472-3516.

Amended Notices

EIS No. 20090170, Draft EIS, FHW, WI, Zoo Interchange Corridor Study, Reconstruction to I0-94 from 70th Street to 124th Street and on US 45 from Burleigh Street to I-894/US 45 and Lincoln Avenue in Milwaukee County, WI, Comment Period Ends: 08/10/2009, Contact: Allen Radliff 608-829-7500. Revision to FR Notice Published 05/29/2009: Extending Comment Period from 07/13/2009 to 08/10/2009.

EIS No. 20090232, Draft EIS, BIA, CA, Soboba Band of Luiseno Indians Horseshoe Grande Fee-to-Trust Project, Construction of a Hotel and Casino, City of San Jacinto, Riverside County, CA, Comment Period Ends: 09/15/2009, Contact: Pat O'Mallan 916-978-6044. Revision to FR Notice Published 07/10/2009: Correction to the Telephone number from 916-978-6043 to 916-978-6044.

Dated: July 14, 2009.
Clifford Rader,
Environmental Protection Specialist, Office of Federal Activities.

[FR Doc. E9-17089 Filed 7-16-09; 8:45 am]

BILLING CODE 6560-50-P